DEPARTMENT OF COMMERCE

National Oceanic and Atmospheric Administration

[I.D. 072606D]

Gulf of Mexico Fishery Management Council; Public Meetings

AGENCY: National Marine Fisheries Service (NMFS), National Oceanic and Atmospheric Administration (NOAA), Commerce.

ACTION: Notice of public meetings.

SUMMARY: The Gulf of Mexico Fishery Management Council will convene public meetings.

DATES: The meetings will be held August 14-17, 2006.

ADDRESSES: These meetings will be held at the Baton Rouge Marriott, 5500 Hilton Avenue, Baton Rouge, LA 70808.

Council address: Gulf of Mexico Fishery Management Council, 2203 North Lois Avenue, Suite 1100, Tampa, FL 33607.

FOR FURTHER INFORMATION CONTACT: Wayne E. Swingle, Executive Director, Gulf of Mexico Fishery Management Council; telephone: (813) 348-1630.

SUPPLEMENTARY INFORMATION:

Council

Wednesday, August 16, 2006

12 noon - Convene.

12:15 p.m. - 2:30 p.m. - Receive public testimony on “A Framework Measure to Address the Bycatch Reduction Criterion for Shrimp Trawls in the Gulf of Mexico West of Cape San Blas, Florida Under the Fishery Management Plan for the Shrimp Fishery of the Gulf of Mexico Including Environmental Assessment, Regulatory Impact Review, and Regulatory Flexibility Act Analysis, as well as exempted fishing permits (if any).

2:30 p.m. - 3:30 p.m. - Receive the Reef Fish Committee Report.

3:30 p.m. - 4:30 p.m. - Open public comment period regarding any fishery issue or concern.

4:30 p.m. - 5:30 p.m. - Convene the Southeast Data, Assessment, and Review Panel (SEDAR) Selection Committee and the Advisory Panel (AP) Selection Committee (CLOSED SESSION).

Thursday, August 17, 2006

8:30 a.m. - 9:30 a.m. - Continue with the Reef Fish Committee Report.

9:30 a.m. - 9:45 a.m. - Publicly report the Council action on the SEDAR Selection Committee and AP Selection Committee/Council sessions.

9:45 a.m. - 12 noon - Receive the Joint Reef Fish/Shrimp Committees Report.

1:30 p.m. - 2 p.m. - Receive the Sustainable Fisheries/Ecosystem Committee Report.

2 p.m. - 2:15 p.m. - Receive the Administrative Policy Committee Report.

2:15 p.m. - 2:45 p.m. - Receive the Migratory Species Committee Report.

2:45 p.m. - 3:30 p.m. - Receive the Mackerel Committee Report.

3:30 p.m. - 4:30 p.m. - Other Business (Includes miscellaneous written reports filed under Tabs O, P, Q, and R of briefing book), as well as any special announcements.

4:30 p.m. - 4:45 p.m. - Election of Chairman and Vice Chairman

Committees

Monday, August 14, 2006

8:30 a.m. - 11:30 a.m. - Conduct an Orientation Session for new Council members.

1 p.m. - 5:30 p.m. - The Reef Fish Management Committee will meet to receive a report on the Madison-Swanson and Steamboat Lumps Marine Protected Areas Monitoring Program by NMFS and a status report on the development of an Individual Fishing Quota (IFQ) system for the grouper fishery. The Committee will also review stock assessments for greater amberjack, vermilion snapper, gray triggerfish, and gag along with recommendations from the Scientific and Statistical Committee (SSC) and Reef Fish AP. The Committee will also consider scheduling stock assessment updates for red snapper and goliath grouper.

Tuesday, August 15, 2006

8:30 a.m. - 12:30 p.m. - The Joint Reef Fish/Shrimp Management Committees will receive a report on the status and health of shrimp stocks in the Gulf, as well as a report from the Ad Hoc Shrimp Effort Working Group on the status of existing effort in the shrimp fishery and possible relationships to optimal effort. The Committee will also consider final action on a regulatory amendment to potentially change the bycatch reduction criterion for Bycatch Reduction Devices (BRDs) used in shrimp trawls west of Cape San Blas, Florida. Finally, the Committee will consider approving Joint Amendment 27 to the Reef Fish Fishery Management Plan (FMP)/Amendment 14 to the Shrimp FMP for public hearings.

2 p.m. - 3 p.m. - The Sustainable Fisheries/Ecosystem Committee will review and possibly approve the Ecosystem SSC's recommended budget for workshops and consider recommending an extension to the ecosystem budget into 2007.

3 p.m. - 3:30 p.m. - The Administrative Policy Committee will meet to consider a proposed pool of non-government organizations (NGO's) that would be used to select representatives to future SEDAR workshops. The Committee will also review the Statement of Organization Practices and Procedures' (SOPPs) provisions on the Standing Scientific and Statistical Committee (SSC).

3:30 p.m. - 4:30 p.m. - The Migratory Species Management Committee will receive a report from NMFS Headquarter on the International Convention for the Conservation of Atlantic Tunas (ICCAT).

Wednesday, August 16, 2006

8:30 a.m. - 10:30 a.m. - The Mackerel Management Committee will review recommendations from the SSC regarding a report from a special scientific committee made up of scientists appointed by the Council and the South Atlantic Fishery Management Council (SAFMC). This report includes recommendations regarding the stock assessment for king mackerel in the Gulf and Atlantic regions. The Committee will also consider the recommendations of the SAFMC regarding this report and other king mackerel issues.

The committee reports will be presented to the Council for consideration later on Wednesday and on Thursday, August 17, 2006.

Although other non-emergency issues not on the agendas may come before the Council and Committees for discussion, in accordance with the Magnuson-Stevens Fishery Conservation and Management Act (Magnuson-Stevens Act), those issues may not be the subject of formal action during these meetings. Actions of the Council and Committees will be restricted to those issues specifically identified in the agendas and any issues arising after publication of this notice that require emergency action under Section 305(c) of the Magnuson-Stevens Act, provided the public has been notified of the Council's intent to take action to address the emergency. The established times for addressing items on the agenda may be adjusted as necessary to accommodate the timely completion of discussion relevant to the agenda items. In order to further allow for such adjustments and completion of all items on the agenda, the meeting may be extended from, or completed prior to the date established in this notice.

Special Accommodations

These meetings are physically accessible to people with disabilities. Requests for sign language interpretation or other auxiliary aids should be directed to Tina Trezza at the Council (see ADDRESSES) at least 5 working days prior to the meeting.

Dated: July 26, 2006.
Tracey L. Thompson,
Acting Director, Office of Sustainable Fisheries, National Marine Fisheries Service.

[FR Doc. E6-12232 Filed 7-28-06; 8:45 am]

BILLING CODE 3510-22-S